DEPARTMENT OF STATE

[Public Notice: 12876]

Revocation of the Designation of Muhammad al-Jawlani as a Specially Designated Global Terrorist

I hereby revoke the designation of the following person as a Specially Designated Global Terrorist, under Executive Order 13224: Muhammad Al-Jawlani, also known as Ahmed al-Sharaa, and his respective aliases.

This determination shall be published in the Federal Register.

Dated: November 7, 2025.
Marco Rubio,
Secretary of State.

[FR Doc. 2025-21680 Filed 11-28-25; 8:45 am]

BILLING CODE 4710-AD-P